ENVIRONMENTAL PROTECTION AGENCY

[FRL-6528-1]

Notice of Proposed Administrative Cost Recovery Settlement Pursuant to the Comprehensive Environmental Response, Compensation, and Liability Act

AGENCY: Environmental Protection Agency.

ACTION: Proposal of CERCLA section 122(h)(1) administrative cost recovery settlement for the Uniroyal Hill Street Site.

SUMMARY: The United States Environmental Protection Agency (“U.S. EPA”) proposes to address the potential liability of Uniroyal, Inc., Uniroyal Holding, Inc., CDU Holding, Inc., and the CDU Holding, Inc. Liquidating Trust (the “Settling Parties”) by execution of a Comprehensive Environmental Response, Compensation and Liability Act (“CERCLA”) section 122(h)(1) Administrative Order on Consent prepared pursuant to 42 U.S.C. 9622(h)(1) (the “Agreement”). The Agreement provides the Settling Parties certain covenants not to sue under CERCLA, 42 U.S.C. 9601 et seq., as amended, and section 7003 of the Resource Conservation and Recovery Act (“RCRA”), 42 U.S.C. 6973, as amended, with respect to the Uniroyal Hill Street Site (the “Site”), located in Mishawaka, Indiana. The key terms and conditions of the Agreement may be briefly summarized as follows: (1) The Settling Parties agree to pay $50,000 to the Hazardous Substances Superfund in satisfaction of U.S. EPA's allowed claim; (2) the Settling Parites agree to pay $50,000 to the City of Mishawaka, in satisfaction of their claim; (3) the Settling Parties agree not to assert any claims or causes of action against the United States, or its contractors or employees, with respect to the Site or the Agreement; (4) subject to the reservations specified in the Agreement, U.S. EPA affords the Settling Parties a covenant not to sue for recovery of response costs pursuant to section 107 of CERCLA, 42 U.S.C. 9607(a), liability for injunctive relief or administrative order enforcement pursuant to section 106 of CERCLA, 42 U.S.C. 9606, liability for injunctive relief pursuant to section 7003 of the Resource Conservation and Recovery Act, 42 U.S.C. 6973, and provides contribution protection as provided by CERCLA sections 113(f)(2) and 122(h)(4), 42 U.S.C. 9613(f)(2) and 9622 (h)(4), conditioned upon satisfaction of obligations under the Agreement. The Site is not on the NPL. The Agreement was signed by the Regional Administrator, U.S. EPA, Region 5, on December 23, 1999.

DATES: Written comments on the proposed Agreement must be received by U.S. EPA on or before February 23, 2000. In accordance with section 7003(d) of RCRA, 42 U.S.C. 6973(d), commenters may request an opportunity for a public hearing in the affected area.

ADDRESSES: The proposed Agreement and the U.S. EPA's response to any comments received will be available for public inspection at U.S. EPA Records Center Room 714, 77 West Jackson Boulevard, Chicago, Illinois 60604. A copy of the proposed Agreement may be obtained from U.S. EPA Office of Regional Counsel, 77 West Jackson Boulevard, Chicago, Illinois 60604. Comments should reference the Uniroyal Hill Street Site, Mishawaka, Indiana, and U.S. EPA Docket No. V-W-99-C-575 and should be addressed to Ms. Hedi Bogda-Cleveland, U.S. EPA Office of Regional Counsel, 77 West Jackson Boulevard (C-14J), Chicago, Illinois 60604-3590.

FOR FURTHER INFORMATION CONTACT: Ms. Hedi Bogda-Cleveland, U.S. EPA Office of Regional Counsel, 77 West Jackson Boulevard (C-14J), Chicago, Illinois 60604, at (312) 886-5825.

Dated: December 23, 1999.
Francis X. Lyons,
Regional Administrator, Region 5.

[FR Doc. 00-1554 Filed 1-21-00; 8:45 am]

BILLING CODE 6560-50-P